DEPARTMENT OF COMMERCE

International Trade Administration

[C-533-872]

Finished Carbon Steel Flanges From India: Final Results of Countervailing Duty Administrative Review, 2016-2017

AGENCY: Enforcement and Compliance, International Trade Administration, Department of Commerce.

SUMMARY: The Department of Commerce (Commerce) determines that Norma (India) Ltd. (Norma) and R.N. Gupta & Co. Ltd (RNG), producers and/or exporters of finished carbon steel flanges (steel flanges) from India, received countervailable subsidies during the period of review (POR), November 29, 2016 through December 31, 2017.

DATES: Applicable April 1, 2020.

FOR FURTHER INFORMATION CONTACT: Yasmin Bordas or John McGowan, AD/CVD Operations, Office VI, Enforcement and Compliance, International Trade Administration, U.S. Department of Commerce, 1401 Constitution Avenue NW, Washington, DC 20230; telephone: (202) 482-3813 and (202) 482-3019, respectively.

SUPPLEMENTARY INFORMATION:

Background

Commerce published the preliminary results of this administrative review of steel flanges from India on October 15, 2019.¹ For a history of events that occurred since the Preliminary Results, see the Issues and Decision Memorandum.²

¹ See Finished Carbon Steel Flanges from India: Preliminary Results of Countervailing Duty Administrative Review, 2016-2017, 84 FR 55141 (October 15, 2019) (Preliminary Results), and accompanying Preliminary Decision Memorandum.

² See Memorandum, “Decision Memorandum for the Final Results of the 2016-2017 Countervailing Duty Administrative Review of Finished Carbon Steel Flanges from India,” dated concurrently with this determination and hereby adopted by this notice (Issues and Decision Memorandum).

Commerce exercised its discretion to toll all deadlines affected by the partial federal government closure from December 22, 2018 through the resumption of operations on January 29, 2019.³ On February 3, 2020, Commerce extended the deadline for the final results of this administrative review. The revised deadline for the final results of this administrative review is now March 27, 2020.⁴

³ See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

⁴ See Memorandum, “Finished Carbon Steel Flanges from India: Extension of Deadline for Final Results of Countervailing Duty Administrative Review; 11/29/2016-12/31/2017,” dated February 3, 2020.

Commerce conducted this review in accordance with section 751(a) of the Tariff Act of 1930, as amended (the Act).

Scope of the Order

The merchandise covered by the order is steel flanges. For a complete description of the scope of the order, see the Issues and Decision Memorandum.

Analysis of Comments Received

All issues raised in interested parties' case and rebuttal briefs are addressed in the Issues and Decision Memorandum. The issues are identified in the Appendix to this notice. The Issues and Decision Memorandum is a public document and is on file electronically via Enforcement and Compliance's Antidumping and Countervailing Duty Centralized Electronic Service System (ACCESS). ACCESS is available to registered users at https://access.trade.gov and is available to all parties in the Central Records Unit, room B8024 of the main Commerce building. In addition, a complete version of the Issues and Decision Memorandum can be accessed directly on the internet at http://enforcement.trade.gov/frn/index.html. The signed and electronic versions of the Issues and Decision Memorandum are identical in content.

Changes Since the Preliminary Results

Based on the comments received from the interested parties after the Preliminary Results, we made changes to the net subsidy rates calculated for the mandatory respondents. For a discussion of these issues, see the Issues and Decision Memorandum.

Companies Not Selected for Individual Review

For the companies not selected for individual review, because the rates calculated for Norma and RNG were above de minimis and not based entirely on facts available, we applied a subsidy rate based on a weighted-average of the subsidy rates calculated for Norma and RNG using publicly ranged sales data submitted by the respondents. This is consistent with the methodology that we would use in an investigation to establish the all-others rate, pursuant to section 705(c)(5)(A) of the Act.

Final Results of Administrative Review

We determine that, for the period of November 29, 2016 through December 31, 2017, the following total estimated net countervailable subsidy rates exist:

⁵ We note that cross-ownership exists between Norma (India) Ltd., USK Export Private Limited (USK), Uma Shanker Khandelwal and Co., (UMA) and Bansidhar Chiranjilal (BCL). See Issues and Decision Memorandum at 4.

Company | Subsidy rate (percent ad valorem)
Norma (India) Ltd ⁵ | 5.39
R.N. Gupta & Co. Ltd | 4.69
Adinath International | 5.03
Allena Group | 5.03
Alloyed Steel | 5.03
Bebitz Flanges Works Private Limited | 5.03
C.D. Industries | 5.03
CHW Forge | 5.03
CHW Forge Pvt. Ltd. | 5.03
Citizen Metal Depot | 5.03
Corum Flange | 5.03
DN Forge Industries | 5.03
Echjay Forgings Limited | 5.03
Falcon Valves and Flanges Private Limited | 5.03
Heubach International | 5.03
Hindon Forge Pvt. Ltd. | 5.03
Jai Auto Pvt. Ltd. | 5.03
Kinnari Steel Corporation | 5.03
M F Rings and Bearing Races Ltd. | 5.03
Mascot Metal Manufactures | 5.03
OM Exports | 5.03
Punjab Steel Works (PSW) | 5.03
R.D. Forge | 5.03
Raaj Sagar Steel | 5.03
Ravi Ratan Metal Industries | 5.03
Rolex Fittings India Pvt. Ltd. | 5.03
Rollwell Forge Pvt. Ltd. | 5.03
SHM (ShinHeung Machinery) | 5.03
Siddhagiri Metal & Tubes | 5.03
Sizer India | 5.03
Steel Shape India | 5.03
Sudhir Forgings Pvt. Ltd. | 5.03
Tirupati Forge | 5.03

Disclosure

Commerce intends to disclose the calculations performed for these final results of review within five days of the date of publication of this notice in the Federal Register, in accordance with 19 CFR 351.224(b).

Assessment Rate

Pursuant to 19 CFR 351.212(b)(2), Commerce intends to issue appropriate instructions to U.S. Customs and Border Protection (CBP) 15 days after publication of the final results of this review. We will instruct CBP to liquidate shipments of subject merchandise produced and/or exported by the companies listed above, entered, or withdrawn from warehouse for consumption, from November 29, 2016 through December 31, 2017, at the ad valorem rates listed above.

Cash Deposit Requirements

The following cash deposit requirements will be effective upon publication of the notice of final results of this administrative review for all shipments of the subject merchandise entered, or withdrawn from warehouse, for consumption on or after the date of publication, as provided by section 751(a)(2)(C) of the Act: (1) The cash deposit rate for the companies listed in these final results will be equal to the subsidy rates established in the final results of this review; (2) for all non-reviewed firms, we will instruct CBP to continue to collect cash deposits at the most-recent company-specific or all-others rate applicable to the company, as appropriate. These cash deposit requirements, when imposed, shall remain in effect until further notice.

Notification Regarding Administrative Protective Order

This notice also serves as a reminder to parties subject to administrative protective order (APO) of their responsibility concerning the disposition of proprietary information disclosed under APO in accordance with 19 CFR 351.305(a)(3), which continues to govern business proprietary information in this segment of the proceeding. Timely written notification of the return or destruction of APO materials, or conversion to judicial protective order is hereby requested. Failure to comply with the regulations and the terms of an APO is a sanctionable violation.

Notification to Interested Parties

These final results are issued and published in accordance with sections 751(a)(1) and 777(i)(1) of the Act and 19 CFR 351.221(b)(5).

Dated: March 23, 2020.
Jeffrey I. Kessler,
Assistant Secretary for Enforcement and Compliance.

Appendix—List of Topics Discussed in the Issues and Decision Memorandum

I. Summary

II. List of Issues

III. Background

IV. Changes since the Preliminary Results

V. Scope of the Order

VI. Period of Review

VII. Subsidies Valuation Information

VIII. Use of Facts Otherwise Available and Adverse Inferences

IX. Analysis of Program

X. Analysis of Comments

Comment 1: Determination Regarding the Exemption from Entry Tax for the Iron and Steel Industry in SGUP

Comment 2: Calculation of EPCGS Benefits for Norma

Comment 3: Calculation of EPCGS Benefits for RNG

XI. Recommendation

[FR Doc. 2020-06777 Filed 3-31-20; 8:45 am]

BILLING CODE 3510-DS-P